ENVIRONMENTAL PROTECTION AGENCY

[FRL-7922-3]

Agency Information Collection Activities: Proposed Collection; Comment Request; Regulatory Pilot Projects (Project XL); EPA ICR Number 1755.06, OMB Control Number 2010-0026

AGENCY: Environmental Protection Agency (EPA).

ACTION: Notice.

SUMMARY: In compliance with the Paperwork Reduction Act (44 U.S.C. 3501 et seq.), this document announces that EPA is planning to submit for renewal the following continuing Information Collection Request (ICR) to the Office of Management and Budget (OMB): Regulatory Pilot Projects (Project XL) (EPA ICR No. 1755.06) (OMB Control No. 2010-0026, current ICR expires August 31, 2005). Before submitting the ICR to OMB for review and approval, EPA is soliciting comments on specific aspects of the proposed information collection as described below.

DATES: Comments must be submitted on or before August 8, 2005.

ADDRESSES: The public may contact Mr. Douglas Heimlich in EPA's Office of Environmental Policy Innovation for a paper copy of the ICR (free of charge). Mr. Heimlich may be reached by mail at the U.S. EPA Office of Environmental Policy Innovation (Mail Code 1807T), 1200 Pennsylvania Avenue, NW., Washington, DC 20460; by telephone at (202) 566-2234, by e-mail at heimlich.douglas@epa.gov, or by FAX at 202-566-2220.

FOR FURTHER INFORMATION CONTACT: Mr. Douglas Heimlich in the Office of Environmental Policy Innovation. Mr. Heimlich may be reached by phone at (202) 566-2234, by e-mail at heimlich.douglas@epa.gov, or by FAX at 202-560-2220. Or, contact Dr. Gerald Filbin in the Office of Environmental Policy Innovation. Dr. Filbin may be reached by phone at (202) 566-2182, by e-mail at filbin.gerald@epa.gov, or by FAX at 202-566-2211.

SUPPLEMENTARY INFORMATION: Affected entities: Entities potentially affected by this action include XL project sponsors, XL project stakeholders, state, tribal and local regulatory agencies, select members of the business industry, environmental organizations, industry trade associations, academics, and community members.

Title: Regulatory Pilot Projects (EPA ICR No.1755.06) (OMB Control No. 2010-0026, current ICR expires August 31, 2005).

Abstract: In March 1995, the U.S. Environmental Protection Agency initiated Project XL in response to a challenge to transform the environmental regulatory system to better meet the needs of a rapidly changing society while maintaining the nation's commitment to protect human health and safeguard the natural environment. Project XL, or eXcellence and Leadership (http://www.epa.gov/ProjectXL/), was one approach to innovation piloting designed to test innovative ideas by those who must comply with EPA regulations and policies. Through innovation pilots EPA is gathering data and project experience that will help the Agency redesign current approaches to public health and environmental protection. Through site-specific agreements with project sponsors, Project XL gives companies, communities, local governments, military bases, and universities flexibility from certain environmental regulations in exchange for commitments to achieve superior environmental performance at less cost. Since 1995, under Project XL, sponsors—private facilities, multiple facilities, industry sectors, Federal facilities, communities, universities, and states—have implemented innovative strategies that produce superior environmental performance, provide flexibility, cost savings, paperwork reduction or other benefits to sponsors, and promote greater accountability to stakeholders. In addition to Project XL, EPA provides other mechanisms for piloting new ideas such as the EPA State Innovation Grant Program (http://www.epa.gov/innovation/stategrants/) and the EPA/ECOS Joint Agreement to Pursue Regulatory Innovation (http://www.ecos.org/files/1426_file_Agreement.pdf) as opportunities for collaborative innovation with a variety of stakeholders. EPA is completing the earlier projects submitted under Project XL, and is continuing piloting under the other mechanisms.

The intent of Project XL was to allow the EPA to experiment with untried, potentially promising regulatory approaches, both to assess whether they provide superior environmental performance and other benefits at the specific facility affected, and whether they should be considered for wider application. Such pilot projects allow the EPA to proceed more quickly than would be possible when undertaking changes on a nationwide basis. EPA may modify rules, on a site- or state-specific basis, that represent one of several possible policy approaches within a more general statutory directive, so long as the alternative being used is permissible under the statute. Similarly, the other mechanisms for innovation, the EPA State Innovation Grant Program and the EPA/ECOS Joint Agreement to Pursue Regulatory Innovation provide a process for States, Tribes, municipalities, and whole business sectors to test regulatory innovation at a broad, systemic scale.

The adoption of such alternative approaches or interpretations in the context of a given project does not, however, signal EPA's willingness to adopt that interpretation as a general matter, or even in the context of other innovation projects. It would be inconsistent with the forward-looking nature of these pilot projects to adopt such innovative approaches prematurely on a widespread basis without first determining whether or not they are viable in practice and successful for the particular projects that embody them. These pilot projects are not intended to be a means for piecemeal revision of entire programs. Depending on the results in these projects, EPA may or may not be willing to consider adopting the alternative approach or interpretation again, either generally or for other specific facilities. EPA believes that adopting alternative policy approaches and/or interpretations, on a limited, site- or state-specific basis and in connection with a carefully selected pilot project is consistent with the expectations of Congress about EPA's role in implementing the environmental statutes (so long as EPA acts within the discretion allowed by the statute). Congress' recognition that there is a need for experimentation and research, as well as ongoing reevaluation of environmental programs, is reflected in a variety of statutory provisions. Also, consistent with the President's Management Agenda, these pilot projects are designed to demonstrate the performance of new approaches through environmental outcomes.

Before submitting an official Project XL proposal to EPA, the project sponsor typically engaged in informal discussions with EPA about proposal design. Once a formal proposal was submitted, EPA along with the corresponding state environmental agency reviewed the proposal. EPA based acceptance of proposals on the extent to which proposals met the following eight criteria: (1) Superior environmental performance, (2) cost savings and reduced paperwork, (3) stakeholder involvement, (4) innovation or pollution prevention, (5) transferability, (6) feasibility, (7) monitoring, reporting and evaluation, and (8) no shifting of risk burden. If the proposal was accepted, EPA and the partnering state agency negotiated the conditions of the proposal with the project sponsor along with other interested stakeholders, including local and national environmental groups and nearby community residents. Once an agreement was reached regarding the conditions of the proposal and the necessary regulatory flexibility, the Final Project Agreement (FPA) was signed and the project sponsor began implementation.

XL project proposals were collected by EPA's Office of Environmental Policy Innovation (OEPI) which has been given responsibility for implementation of this program. Since its inception in 1995, over 100 Project XL proposals have been received and reviewed, and over 50 pilot projects have been implemented. Of these approximately nine (9) have been completed, thirteen (13) have been terminated prior to completion and thirty (30) remain to be completed. The program itself includes other offices within EPA headquarters, EPA regions, federal, state, tribal and local government agencies. The renewal of this ICR is important as it will allow the Agency to continue to work with sponsors of these innovation pilots, and to respond to additional regulated entities who are interested in innovation pilot projects.

An agency may not conduct or sponsor, and a person is not required to respond to, a collection of information unless it displays a currently valid OMB control number. The OMB control numbers for EPA's regulations are listed in 40 CFR Part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of information to be collected: and

(iv) Minimize the burden of the collection of information on those who are to respond, including through the use of appropriate automated electronic, mechanical, or other technological collection techniques or other forms of information technology; e.g., permitting electronic submissions of responses.

Burden Statement: This section presents EPA's estimates of the burden and cost to complete the information collection activities associated with this collection. In using this analysis, however, it should be remembered not only that all responses to this solicitation are voluntary, but also that respondents have some expected value attached with their participation. Fundamental to projects in this program will be reduced cost of compliance due to increased regulatory flexibility. Not unlike a contracts-based Request For Proposals, one would not expect a response from any entity where the burdens associated with preparing the response outweigh the expected benefits to the respondent.

Information requests are expected for approximately 40 XL projects over the lifetime of this ICR as well as approximately 30 other projects that have been developed under the State Innovation Grants and other mechanisms. The State Grants Program uses a competition process established under 40 CFR 31 and compliant with the requirements established in the Agency's Assistance Agreement Competition Policy ( EPA E.O. 5700.5A1). Under that policy, States compete for funds by responding to an annual solicitation with a brief initial proposal. States that are selected based upon an evaluation using published criteria are asked to submit a more detailed proposal leading to award. The average number of annual awards is eight (8).

Information will also be requested for implemented projects as part of periodic reporting required for grants management and for projects that are approaching completion, or have reached completion and for which information is requested to document the outcome of each project. In the ten years since the March 16, 1995 announcement of the program, EPA received over 100 Project XL proposals. In the tenth year of the program, EPA continues to receive inquiries about the program.

During the lifetime of this ICR, EPA will solicit information from project sponsors regarding the process and outcomes for projects at completion. This addresses the commitment of each project sponsor established in the project FPA to report on the final outcomes of the project and to provide relevant information to allow EPA to assess the degree of success for each of these projects and examine the impediments to implementation that are relevant to potential future attempts to scale up successful innovations demonstrated in Project XL or other families of innovation to broader scale application. To complete a project final report and respond to a follow-up questionnaire, EPA estimates that each project sponsor will use forty (40) hours of time, and further estimates the thirty (40) XL projects at or approaching completion will require a total of 1600 hours (40 hours x 40 projects). Further, EPA estimates that its own analysts will require an additional twenty (20) hours of time per project to read and extract information on project measures and outcomes, or a total of 600 hours. EPA estimates that eighteen hundred (2200) hours of time may reflect a cost of $660,000. Similarly, EPA anticipates that State Innovation Grants Projects may require States to expend up to 40 hours in preparation for each pre-proposal for a total of 1000 hours as an annual average (40x25). The small number of States selected and asked to provide a more detailed proposal may expend up to 100 hours per proposal for a total of 800 hours (8x100) annually (1800 hours annually). Over the period of this ICR, States may expend up to 5400 hours (1800x3) preparing proposals for State Innovation Grants; EPA anticipates expending up to 2000 hours for analysis of this information. In addition, quarterly reporting on projects, now required under assistance agreement policy may account for 64 hours of time annually for recipient States and 100 hours annually for EPA to complete analysis. The anticipated total cost of this reporting is estimated at $2,400,000.

No capital or start-up costs will be associated with this effort.

Burden means total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: May 23, 2005.
Gregory Ondich,
Acting Office Director, Office of Environmental Policy Innovation.

[FR Doc. 05-11383 Filed 6-7-05; 8:45 am]

BILLING CODE 6560-50-P